FEDERAL ELECTION COMMISSION

[Notice 2018-08]

Filing Dates for the Mississippi Senate Special Election

AGENCY: Federal Election Commission.

ACTION: Notice of filing dates for special election.

SUMMARY: Mississippi has scheduled a special general election on November 6, 2018, to fill the U.S. Senate seat vacated by Senator Thad Cochran. Under Mississippi law, a majority winner in a nonpartisan special election is declared elected. Should no candidate achieve a majority vote, a Special Runoff Election will be held on November 27, 2018, between the top two vote-getters.

Committees participating in the Mississippi special elections are required to file pre- and post-election reports. Filing dates for these reports are affected by whether one or two elections are held.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the Mississippi Special General and Special Runoff Elections shall file a 12-day Pre-General Report on October 25, 2018; a 12-day Pre-Runoff Report on November 15; and a 30-day Post-Runoff Report on December 27, 2018. (See charts below for the closing date for each report.)

If only one election is held, all principal campaign committees of candidates in the Special General Election shall file a 12-day Pre-General Report on October 25, 2018; and a 30-day Post-General Report on December 6, 2018. (See charts below for the closing date for each report.)

Note that these reports are in addition to the campaign committee's regular quarterly filings. (See charts below for the closing date for each report).

Unauthorized Committees (PACs and Party Committees)

Political committees filing on a quarterly basis in 2018 are subject to special election reporting if they make previously undisclosed contributions or expenditures in connection with the Mississippi Special General or Special Runoff Elections by the close of books for the applicable report(s). (See chart below for the closing date for each report.)

Committees filing monthly that make contributions or expenditures in connection with the Mississippi Special General or Special Runoff Elections will continue to file according to the monthly reporting schedule.

Additional disclosure information in connection with the Mississippi Special General Elections may be found on the FEC website at https://www.fec.gov/help-candidates-and-committees/dates-and-deadlines/.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $18,200 during the special election reporting periods. (See charts below for closing date of each period.) 11 CFR 104.22(a)(5)(v), (b).

Calendar of Reporting Dates for Mississippi Special General Election
Report | Close of books ¹ | Reg./cert. & overnight mailing deadline | Filing deadline
If Only the Special General Is Held (11/06/18), Political Committees Involved Must File:
Pre-General | 10/17/18 | 10/22/18 | 10/25/18
Post-General | 11/26/18 | 12/06/18 | 12/06/18
Year-End | 12/31/18 | 01/31/19 | 01/31/19
If Two Elections Are Held, Political Committees Involved Only in the Special General (11/06/18) Must File:
Pre-General | 10/17/18 | 10/22/18 | 10/25/18
Year-End | 12/31/18 | 01/31/19 | 01/31/19
Political Committees Involved in Both the Special General (11/06/18) and Special Runoff (11/27/18) Must File:
Pre-General | 10/17/18 | 10/22/18 | 10/25/18
Pre-Runoff | 11/07/18 | ² 11/12/18 | 11/15/18
Post-Runoff | 12/17/18 | 12/27/18 | 12/27/18
Year-End | 12/31/18 | 01/31/19 | 01/31/19
If Two Elections Are Held, Political Committees Involved Only in the Special Runoff (11/27/18) Must File:
Pre-Runoff | ² 11/07/18 | 11/12/18 | 11/15/18
Post-Runoff | 12/17/18 | 12/27/18 | 12/27/18
Year-End | 12/31/18 | 01/31/19 | 01/31/19
¹ The reporting period always begins the day after the closing date of the last report filed. If the committee is new and has not previously filed a report, the first report must cover all activity that occurred before the committee registered as a political committee up through the close of books for the first report due.
² Notice that the registered/certified & overnight mailing deadline falls on a weekend or federal holiday. The report should be postmarked before that date.

On behalf of the Commission,
Dated: April 11, 2018.
Caroline C. Hunter,
Chair, Federal Election Commission.

[FR Doc. 2018-08605 Filed 4-24-18; 8:45 am]

BILLING CODE 6715-01-P